DEPARTMENT OF THE INTERIOR

National Park Service

[NPS-SERO-CAHA; PPWONRADE2, PMP00EI05.YP0000]

Notice of Intent To Prepare an Environmental Impact Statement for a Sediment Management Framework, Cape Hatteras National Seashore Recreational Area, Dare and Hyde Counties, North Carolina

AGENCY: National Park Service, Interior.

ACTION: Notice of intent.

SUMMARY: The National Park Service (NPS) is preparing an Environmental Impact Statement (EIS) in accordance with the National Environmental Policy Act (NEPA) for a Sediment Management Framework (framework) at the Cape Hatteras National Seashore (the Seashore). The framework will include certain sediment management activities implemented by the Seashore and by local jurisdictions, state agencies, and other federal agencies.

DATES: This notice initiates the public scoping process. The public scoping comment period will conclude 30 days following the date this Notice of Intent published in the Federal Register. All comments must be postmarked or transmitted by this date. Public open houses will be announced in local media and at https://parkplanning.nps.gov/CAHASediment.

ADDRESSES: Information will be available for public review online at https://parkplanning.nps.gov/CAHASediment and in the Office of the Superintendent, 1401 National Park Drive, Manteo, North Carolina, 27954 (252-473-2111, telephone).

FOR FURTHER INFORMATION CONTACT: Sabrina Henry, Environmental Protection Specialist- Compliance, 1401 National Park Drive, Manteo, North Carolina, 27954 (252-423-1541, telephone).

SUPPLEMENTARY INFORMATION: Pursuant to the National Environmental Policy Act of 1969, 42 U.S.C. 4332(2)(C) (NEPA), the NPS is preparing an EIS for sediment management, including the method, locations, and frequency for sediment management actions that be may be permitted through a special use permit, at the Seashore, for the next two decades. The NPS invited the following agencies to participate as cooperating agencies in this NEPA process: Bureau of Ocean Energy Management, US Fish and Wildlife Service (USFWS), the US Army Corp of Engineers Wilmington District (Regulatory and Planning Divisions), US Coast Guard, North Carolina Department of Transportation (NCDOT) (Ferry and Highway Divisions), North Carolina Wildlife Resources Commission, Dare County, and Hyde County.

Background

Authorized in 1937 along the Outer Banks of North Carolina, Cape Hatteras is the nation's first national seashore. Consisting of more than 30,000 acres distributed along approximately 67 miles of shoreline, the Seashore is part of a dynamic barrier island system. Nine villages, including Nags Head, Rodanthe, Waves, Salvo, Avon, Buxton, Frisco, Hatteras, and Ocracoke, are located adjacent to or within the Seashore. Pea Island National Wildlife Refuge, which is jointly managed by the USFWS, is also located within the administrative boundary of the Seashore, south of Oregon Inlet.

Natural accretion and erosion processes have been impacted at the Seashore for decades due to anthropogenic activities (e.g., dune building, dune planting, inlet dredging and maintenance of dunes) and other changes (e.g., sea-level rise). Sediment management efforts have been used at the Seashore to control erosion and stabilize sand dunes. From the 1930s through the 1960s, active dune building, and revegetation efforts occurred along the Seashore. Since the 1970s, localized beach nourishment has been the primary method of combating shoreline erosion, but has been restricted to Ocracoke Island, the Buxton/Cape Hatteras area, and Rodanthe. In some places, segments of beach are relatively stable, and natural processes maintain high dunes. In other places, erosion results in ocean encroachment on the dunes and results in the ocean washing over onto North Carolina Highway 12 (NC 12) and within adjacent communities.

Purpose and Need

The purpose of the EIS is to develop a streamlined framework for implementing sediment management at the Seashore, including the method, location, and frequency for sediment management actions that may be permitted. We have received various requests and anticipate future requests to issue special use permits for protecting roads, bridges, electrical transmission facilities, and other public transportation facilities; repairing island damages, including breaches that also affect transportation; and restoring habitat through the placement of dredged materials along eroded sections of barrier islands. A sediment management framework is needed to assist the Seashore in addressing these requests, while avoiding and minimizing impacts that may be associated with such actions conducted by NPS and other agencies to mitigate shoreline erosion. The framework is needed to limit impacts to the Seashore and provide timely response for localized beach nourishment efforts in the face of increased storm events and projected sea-level rise. Similarly, sediment management strategies may be used for specific habitat restoration projects.

Alternatives

The NPS will evaluate alternative approaches for sediment management at the Seashore. The NPS is considering the following alternatives.

Under Alternative A, the no-action alternative, the NPS would not permit others to conduct sediment management activities at the Seashore over the next two decades. No habitat restoration projects that include the placement of sediment would occur. The NCDOT currently maintains an easement through the Seashore for NC 12. The no-action alternative would preclude NCDOT from maintaining NC 12 outside of its existing easement, potentially resulting in the loss of the highway.

Under Alternative B, the proposed action, the NPS could permit other agencies and municipalities to conduct, with conditions, sediment management in the form of ocean- and sound side- beach nourishment, filling island breaches, and dune restoration. This alternative would also recognize that NPS and others may independently or in partnership restore beach habitats or periodically protect specific facilities or resources through sediment placement in areas that have been affected by erosion. The proposed action includes the following elements:

• Beach nourishment may be used to mitigate coastal erosion at various sites along the Seashore, including ocean and sound-side environments. Beach nourishment may occur at up to two locations per year, using between 50-250 cubic yards of sediment per foot, placed via dredge or sediment trucking. Sediment management permitted under the proposed action would fall within the general parameters of past beach nourishment projects.

• The restoration of habitat may occur in locations such as the southern end of Hatteras Island and Green Island in Oregon Inlet. Restored habitat could benefit nesting shorebirds and sea turtles. Habitat restoration projects would include the application of dredge material and moving/manipulating sand at the site with heavy machinery. Dredge material may come from the pipeline dredging operations or other sources, provided the sediment is a close match to the sediment grain size found at the proposed action site.

• Dune reconstruction and enhancement, as well as moving or regrading sediment to protect existing access and public facilities, may occur. Actions that promote natural dune building processes, such as beach grass planting and sand fencing, are included in the proposed action and may be carried out

• Emergency breach fill may occur under the proposed action. When inlets, overwash areas, or damaged roadways are caused by wave, water, and wind action during storm events, they may be closed due to roadway reconstruction activities. These projects may include trucking, staging, and pumping sediment in from other locations.

The NPS will not select an alternative for implementation until after the final EIS is completed. The NPS will analyze the impacts of the alternatives on littoral processes and barrier island morphology, benthic organisms and essential fish habitat, sea turtles, shorebirds, and structures and infrastructure. Additional alternatives may be considered during the process of preparing an EIS.

Public Comment

How to Provide Comments—During the scoping period, project information will be available on the project's website at https://parkplanning.nps.gov/CAHASediment. Public open houses will be conducted to provide an opportunity for the public to share their comments and learn more about activities at the Seashore. Details regarding the exact times and locations of these meetings will be announced on the project website and through local and regional media. The meetings will also be announced through email notification, press release, and social media to individuals and organizations.

If you wish to comment on the purpose, need, preliminary alternatives, additional alternatives, or on any other issues associated with development of the framework and EIS, you may submit your comments by any one of several methods. The preferred method for commenting is online at https://parkplanning.nps.gov/CAHASediment. You may mail or hand deliver comments to the Superintendent, Cape Hatteras National Seashore, 1401 National Park Drive, Manteo, North Carolina, 27954. Written comments will also be accepted at the public open houses. Comments will not be accepted by fax, email, or by any method other than those specified above. Bulk comments in any format (hard copy or electronic) submitted on behalf of others will not be accepted.

Public Availability of Comments—Before including your address, phone number, email address, or other personal identifying information in your comment, you should be aware that your entire comment—including your personal identifying information—may be made publicly available at any time. While you can ask us in your comment to withhold your personal identifying information from public review, we cannot guarantee that we will be able to do so.

Authority: 40 CFR 1501.7.

Robert A. Vogel,
Regional Director, Interior Region 2, South Atlantic-Gulf.

[FR Doc. 2020-07426 Filed 4-9-20; 8:45 am]

BILLING CODE 4312-52-P